POSTAL SERVICE

39 CFR Part 3

Amendment to Bylaws of the Board of Governors

AGENCY: Postal Service.

ACTION: Final rule.

SUMMARY: On September 11, 2006, the Board of Governors of the United States Postal Service adopted a revision to its bylaws. The purpose of this revision was to enable Postal Service management to submit relatively minor Negotiated Service Agreements (NSAs) to the Postal Rate Commission for consideration without first submitting those minor NSAs to the Postal Service Board of Governors. Consequently, the Postal Service hereby publishes this final rule.

DATES: Effective Date: September 11, 2006.

FOR FURTHER INFORMATION CONTACT: Wendy A. Hocking, Secretary of the Board, U.S. Postal Service, 475 L'Enfant Plaza, SW., Washington, DC 20260-1000, (202) 268-4800.

SUPPLEMENTARY INFORMATION: This document publishes a revision to 39 CFR 3.3 of the Bylaws of the Board of Governors of the United States Postal Service. The Board's bylaws in paragraphs (f) and (g) of § 3.3 had reserved to the full Board the authorization for filing any request to the Postal Rate Commission for a recommended decision on changes in rates or mail classification. The Board revised paragraphs (f) and (g) of § 3.3 to provide that the Postmaster General may authorize the filing of a request to the Postal Rate Commission for minor NSAs without first submitting the request to the Postal Service Board of Governors. The changes were adopted by the Board on September 11, 2006. The purpose of the changes was to enable Postal Service management to submit relatively minor NSAs to the Postal Rate Commission without first coming to the Board for approval. This exception would apply only for submissions under the Commission's rules for streamlined consideration of requests to renew an existing NSA or to add one that is “functionally equivalent” to an existing NSA. Proposals for new baseline NSAs would still require Board approval in advance. At the end of the process, when the Commission completes its proceedings and submits a recommended decision, final consideration by the Governors is required in all cases by statute.

List of Subjects in 39 CFR Part 3

Administrative practice and procedure, Organization and functions (Government agencies), Postal Service.

Accordingly, part 3 of title 39 CFR is amended as follows:

PART 3—BOARD OF GOVERNORS (ARTICLE 111)

1. The authority citation for part three continues to read as follows:

Authority: 39 U.S.C. 202, 203, 205, 401(2), (10), 402, 414, 416, 1003, 2802-2804, 3013; 5 U.S.C. 552b (g), (j); Inspector General Act, 5 U.S.C. app.; Pub.L. 107-67, 115 Stat.514 (2001).

2. Section 3.3 is amended by revising paragraphs (f) and (g) to read as follows:

§ 3.3 Matters reserved for decision by the Board.

* * * * *

(f) Authorization of the Postal Service to request the Postal Rate Commission to submit a recommended decision on changes in postal rates, except that the Postmaster General may authorize such requests with respect to Negotiated Service Agreements filed for consideration under 39 CFR 3001.196 or 3001.197.

(g) Authorization of the Postal Service to request the Postal Rate Commission to submit a recommended decision on changes in the mail classification schedule, except that the Postmaster General may authorize such requests with respect to Negotiated Service Agreements filed for consideration under 39 CFR 3001.196 or 3001.197.

* * * * *

Neva Watson,
Attorney, Legislative, Legal Policy and Ratemaking.

[FR Doc. E6-18545 Filed 11-1-06; 8:45 am]

BILLING CODE 7710-12-P